DEPARTMENT OF DEFENSE

Office of the Secretary

Defense Science Board

AGENCY: Department of Defense.

ACTION: Notice of Advisory Committee Meetings.

SUMMARY: The Defense Science Board (DSB) Task Force on E-Commerce will meet in closed session on September 25-26, 2001, and October 23, 2001, at SAIC, Inc., 4001 N. Fairfax Drive, Arlington, VA. This Task Force will review the DoD's current implementation status of e-commerce tools and make any appropriate recommendations that might enhance opportunities for cost reduction, capital and manpower efficiency.

The mission of the Defense Science Board is to advise the Secretary of Defense and the Under Secretary of Defense for Acquisition, Technology & Logistics on scientific and technical matters as they affect the perceived needs of the Department of Defense. At these meetings, the Defense Science Board Task Force will review and evaluate the Department's new procurement approaches and its current implementation status in light of the fact that the Department has one of the largest acquisition systems in the world for both goods and services.

In accordance with Section 10(d) of the Federal Advisory Committee Act, P.L. No. 92-463, as amended (5 U.S.C. App. II), it has been determined that these Defense Science Board meetings concern matters listed in 5 U.S.C. 552b(c)(4), and that accordingly these meetings will be closed to the public.

Dated: June 14, 2001.
L.M. Bynum,
Alternate OSD Federal Register Liaison Officer, Department of Defense.

[FR Doc. 01-15593 Filed 6-20-01; 8:45 am]

BILLING CODE 5001-08-M